DEPARTMENT OF STATE

[Public Notice 11700]

Notice of Public Meeting in Preparation for the International Maritime Organization FAL 46 Meeting

The Department of State will conduct a public meeting at 9 a.m. on Monday, May 2, 2022, by way of teleconference. The primary purpose of this meeting is to prepare for the forty-sixth session of the International Maritime Organization's (IMO) Facilitation Committee (FAL) to be held virtually from Monday, May 9, 2022 to Friday, May 13, 2022.

Members of the public may participate up to the capacity of the teleconference phone line, which can handle 500 participants. To RSVP, participants should contact the meeting coordinator, James Bull, by email at James.T.Bull@uscg.mil. To access the teleconference line, participants should call (202) 475-4000 and use Participant Code: 303 334 49#.

The agenda items to be considered at this meeting mirror those to be considered at FAL 46, and include:

—Adoption of the agenda

—Decisions of other IMO bodies

—Consideration and adoption of proposed amendments to the Convention

—Review and update of the annex of the FAL Convention

—Application of single-window concept

—Review and revision of the IMO Compendium on Facilitation and Electronic Business, including additional e-business solutions

—Developing guidance for authentication, integrity and confidentiality of content for the purpose of exchange via a maritime single window

—Consideration of descriptions of Maritime Services in the context of e-navigation

—Development of guidelines for harmonized communication and electronic exchange of operational data for port calls

—Development of amendments to the Recommendations on the establishment of National Facilitation Committees (FAL.5/Circ.2)

—Unsafe mixed migration by sea

—Consideration and analysis of reports and information on persons rescued at sea and stowaways

—Guidance to address maritime corruption

—Regulatory scoping exercise for the use of Maritime Autonomous Surface Ships (MASS)

—Development of guidelines for the prevention and suppression of the smuggling of wildlife on ships engaged in international maritime traffic

—Introduction of the API/PNR concept in maritime transport

—Analysis of possible means of auditing compliance with the Convention on Facilitation of International Maritime Traffic

—Technical cooperation activities related to facilitation of maritime traffic

—Relations with other organizations

—Application of the Committee's procedures on organization and method of work

—Work programme

—Any other business

—Consideration of the report of the Committee on its forty-sixth session

Please note: The Committee may adjust the FAL 46 agenda to accommodate the constraints associated with the virtual meeting format. Any changes to the agenda will be reported to those who RSVP.

Those who plan to participate may contact the meeting coordinator, Mr. James Bull, by email at James.T.Bull@uscg.mil, by phone at (202) 372-1144, or in writing at 2703 Martin Luther King Jr. Ave. SE, Stop 7509, Washington, DC 20593-7509 prior to the meeting with any questions. Members of the public needing reasonable accommodation should advise Mr. Bull not later than April 25, 2022. Requests made after that date will be considered, but might not be possible to fulfill.

Additional information regarding this and other IMO public meetings may be found at: https://www.dco.uscg.mil/IMO.

Emily A. Rose,
Coast Guard Liaison Officer, Office of Ocean and Polar Affairs, Department of State.

[FR Doc. 2022-06954 Filed 4-1-22; 8:45 am]

BILLING CODE 4710-09-P